ENVIRONMENTAL PROTECTION AGENCY

[OPP-2002-0246; FRL-7284-4]

Bis(Tributyltin) Oxide and Tributyltin Methacrylate; Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by International Paint Inc. and Hempel Coatings (USA), Inc. to voluntarily cancel registrations of three antifouling paint products containing tributyltin compounds. Section 6(f)(1) of FIFRA provides that a registrant of a pesticide product may at any time request that any of its pesticide registrations be canceled or amended to terminate one or more uses. FIFRA further provides that, before acting on the request, EPA must publish a notice of receipt of any request in the Federal Register and provide for a 30-day comment period.

DATES: Comments must be received on or before February 14, 2003.

FOR FURTHER INFORMATION CONTACT: By mail: Jill Bloom, Special Review and Reregistration Division (7508C), Office of Pesticide Programs, Environmental Protection Agency, 1200 Pennsylvania Avenue, NW., Washington, DC 20460. Office location for commercial courier delivery, telephone number, and e-mail address: Room 604W53, Crystal Mall #2, 1921 Jefferson Davis Highway, Arlington, VA 22202, (703) 308-8019; e-mail: bloom.jill@epa.gov.

SUPPLEMENTARY INFORMATION:

I. General Information

A. Does this Action Apply to Me?

This action is directed to the public in general. Although, this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket ID number OPP-2002-0246. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although, not all docket materials may be available electronically, you may still access any of the publicly available docket materials through the docket facility identified in Unit I.B.1. Once in the system, select “search,” then key in the appropriate docket ID number.

C. How and to Whom Do I Submit Comments?

You may submit comments through the mail, in person, or electronically. To ensure proper receipt by EPA, it is imperative that you identify docket ID number OPP-2002-0246 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket ID number OPP-2002-0246. Electronic comments also may be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy that does not contain the information claimed as CBI must be submitted for inclusion in the public version of the official record. Information not marked confidential will be included in the public version of the official record without prior notice. If you have any questions about CBI or the procedures for claiming CBI, please consult the person listed under FOR FURTHER INFORMATION CONTACT.

II. What Action is the Agency Taking?

This notice announces receipt by the Agency of applications from registrants to cancel certain pesticide products registered under section 3 of FIFRA. International Paint Inc. has voluntarily requested that EPA cancel two of its product registrations containing tributyltin compounds. Hempel Coatings (USA), Inc. has voluntarily requested that EPA cancel its sole product registration containing tributyltin compounds. These registrations are listed in Table 1 of this unit:

Table 1.-Registrations with Pending Requests for Cancellation
Company Name | Registration number | Product Name | Active Ingredients
International Paint Inc. | 67543-8 | XL-48 | Tributyltin methacrylate
International Paint Inc. | 2693-123 | Interswift BKA007 Red | Bis(tributyltin)oxide tributyltin methacrylate
Hempel Coatings (USA), | 10250-53 | Hempel's Antifouling Combic 76990-51110 Red | Bis(tributyltin)oxide tributyltin methacrylate

International Paint Inc. requested these actions in letters dated May 17, 2002 and June 3, 2002 for its products with EPA registration numbers 67543-8 and 2693-123, respectively. On June 19, 2002, International Paint Inc. requested that it be allowed to continue to sell and distribute existing stocks of these products until December 1, 2002. On July 26, 2002, International Paint Inc. waived the 180-day period that typically has been allowed before certain requests for voluntary cancellation are approved or denied.

Hempel Coatings (USA), Inc. requested the voluntary cancellation of its product with EPA registration number 10250-53 in a letter dated July 8, 2002. In that same letter, the registrant requested that it be allowed to continue to sell and distribute existing stocks of the subject product until December 31, 2002, and waived the 180-day period that typically has been allowed before certain requests for voluntary cancellation are approved or denied.

Table 2 of this unit includes the names and addresses of record for all registrants of the products in Table 1 of this unit, in ascending sequence by EPA company number:

Table 2.-Registrants Requesting Voluntary Cancellation
EPA Company No. | Company Name and Address
2693 | International Paint Inc. 2270 Morris Avenue Union, NJ 07083
10250 | Hempel Coatings (USA). Inc. 600 Conroe Park North Conroe, TX 77303-5056
67543 | International Paint Inc. 2270 Morris Avenue Union, NJ 07083

III. What is the Agency's Authority for Taking this Action?

Section 6(f)(1) of FIFRA provides that a registrant of a pesticide product may at any time request that any of its pesticide registrations be canceled. FIFRA further provides that, before acting on the request, EPA must publish a notice of receipt of any such request in the Federal Register and provide a 30-day period for comments on the notice. Thereafter, the Administrator may act on such a request.

IV. Procedures for Withdrawal of Request

Both International Paint Inc. and Hempel Coatings (USA), Inc. have waived any right to withdraw their requests for voluntary cancellation of the products listed in Table 1 in Unit II.

V. Provisions for Disposition of Existing Stocks

The effective date of cancellation will be the date of the cancellation order. For purposes of the cancellation order that the Agency intends to issue at the close of the comment period for this announcement, the term “existing stocks” will be defined, pursuant to the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless, the provisions of an earlier order apply, existing stocks already in the hands of dealers or users can be distributed, sold, or used legally until they are exhausted, provided that such further sale and use comply with the EPA-approved label and labeling of the affected product. Any sale, distribution, or use of existing stocks after the effective date of the cancellation order that is not consistent with the terms of the cancellation order will be considered a violation of section 12(a)(2)(K) and/or 12(a)(1)(A) of FIFRA, unless it is for purposes of shipping such stocks for relabeling, repackaging, export consistent with the requirements of section 17 of FIFRA, or disposal.

In the cancellation orders issued in response to the requests for voluntary cancellation cited in this notice, the Agency proposes to include the following provisions for treatment of any existing stocks of the products identified in Table 1 in Unit II.

All sale, distribution, or use by International Paint Inc. of existing stocks of its affected products listed in Table 1 in Unit II. will be unlawful under FIFRA after December 1, 2002. Any stocks of such products not in the hands of the registrant may continue to be sold, distributed, and used until such stocks are exhausted.

All sale, distribution, or use by Hempel Coatings (USA), Inc. of existing stocks of its affected product listed in Table 1 in Unit II. will be unlawful under FIFRA after December 31, 2002. Any stocks of such products not in the hands of the registrant may continue to be sold, distributed, and used until such stocks are exhausted.

List of Subjects

Environmental protection, Pesticides and pests.

December 24, 2002.
Lois Rossi,
Director, Information Resources Services Division, Office of Pesticide Programs.

[FR Doc. 03-613 Filed 1-14-03; 8:45 am]

BILLING CODE 6560-50-S